DEPARTMENT OF HOMELAND SECURITY

Federal Emergency Management Agency

[FEMA-3278-EM]

Minnesota; Amendment No. 1 to Notice of an Emergency Declaration

AGENCY: Federal Emergency Management Agency, DHS.

ACTION: Notice.

SUMMARY: This notice amends the notice of an emergency for the State of Minnesota (FEMA-3278-EM), dated August 21, 2007, and related determinations.

DATES: Effective Date: August 31, 2007.

FOR FURTHER INFORMATION CONTACT: Peggy Miller, Disaster Assistance Directorate, Federal Emergency Management Agency, Washington, DC 20472, (202) 646-2705.

SUPPLEMENTARY INFORMATION: Notice is hereby given that assistance under the Stafford Act shall be approved for emergency protective measures (Category B) resulting from the emergency that took place on August 1, 2007, so long as such eligible expenses were incurred during the period beginning on August 1, 2007, and ending on August 25, 2007.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050 Individuals and Households Program-Other Needs; 97.036, Public Assistance Grants; 97.039, Hazard Mitigation Grant Program.)

R. David Paulison,
Administrator, Federal Emergency Management Agency.

[FR Doc. E7-17790 Filed 9-10-07; 8:45 am]

BILLING CODE 9110-10-P